DEPARTMENT OF TRANSPORTATION

Office of the Secretary

Aviation Proceedings, Agreements Filed the Week Ending March 26, 2011

The following Agreements were filed with the Department of Transportation under the Sections 412 and 414 of the Federal Aviation Act, as amended (49 U.S.C. 1382 and 1384) and procedures governing proceedings to enforce these provisions. Answers may be filed within 21 days after the filing of the application.

Docket Number: DOT-OST-2011-0063.

Date Filed: March 23, 2011.

Parties: Members of the International Air Transport Association.

Subject: (a) TC3 (except within/to/from South West Pacific, between Korea (Rep. of). Malaysia and Guam, Northern Mariana Islands), Flex Fares Resolutions, Beijing, 11-12 May 2010, (Memo 1389).

TC3 (except within/to/from South West Pacific, between Korea, (Rep. of). Malaysia and Guam, Northern, Mariana Islands), Flex Fares Resolutions, Minutes (Memo 1390).

TC3 (except within/to/from South West Pacific, between Korea (Rep. of). Malaysia and Guam, Northern Mariana Islands), Flex Fares Resolutions, Beijing, 11-12 May 2010.

Technical Correction

(Memo 1391)

TC3 (except within/to/from South West Pacific, between Korea (Rep. of). Malaysia and Guam, Northern Mariana Islands), Flex Fares Tables, Beijing, 11-12 May 2010.

(Memo 1412)

(b) TC3 Flex Fares between Japan, Korea and South West Pacific within South West Pacific, between South Asian Subcontinent, South East Asia and South West Pacific.

TC3 (except within/to/from South West Pacific, between Korea (Rep. of). Malaysia and Guam, Northern Mariana Islands), Mail Vote 671.

(Memo 1422)

Intended effective date: 1 April 2011 and 1 June 2011.

Docket Number: DOT-OST-2011-0064.

Date Filed: March 23, 2011.

Parties: Members of the International Air Transport Association.

Subject: (a) TC3 between Korea (Rep. of). Malaysia and Guam, Northern Mariana Islands, Flex Fares Resolutions, MV639.

(Memo 1393)

(b) TC3 Flex Fares between Korea (Rep. of). Malaysia and Guam, Northern Mariana Islands, Mail Vote 672.

(Memo 1423)

Intended effective date: 1 April 2011.

Renee V. Wright,
Program Manager, Docket Operations, Federal Register Liaison.

[FR Doc. 2011-8694 Filed 4-12-11; 8:45 am]

BILLING CODE 4910-9X-P